DEPARTMENT OF DEFENSE

Defense Logistics Agency

[DOD-2006-OS-0123]

Privacy Act of 1974; Systems of Records

AGENCY: Defense Logistics Agency.

ACTION: Notice to amend a system of records.

SUMMARY: The Defense Logistics Agency is amending a system of records notice to its existing inventory of record systems subject to the Privacy Act of 1974 (5 U.S.C. 552a), as amended.

DATES: This action will be effective without further notice on July 5, 2006 unless comments are received that would result in a contrary determination.

ADDRESSES: Send comments to the Privacy Act Officer, Headquarters, Defense Logistics Agency, ATTN: DP, 8725 John J. Kingman Road, Stop 2533, Fort Belvoir, VA 22060-6221.

FOR FURTHER INFORMATION CONTACT: Ms. Susan Salus at (703) 767-6183.

SUPPLEMENTARY INFORMATION: The Defense Logistics Agency notices for systems of records subject to the Privacy Act of 1974 (5 U.S.C. 552a), as amended, have been published in the Federal Register and are available from the address above.

The specific changes to the record system being amended are set forth below followed by the notice, as amended, published in its entirety. The proposed amendment is not within the purview of subsection (r) of the Privacy Act of 1974 (5 U.S.C. 552a), as amended, which requires the submission of a new or altered system report.

Dated: May 26, 2006.
C.R. Choate,
Alternate OSD Federal Register Liaison Officer, Department of Defense.

S600.20 MMDI

System name:

Firefighter/Emergency Medical Technician (EMT) Records (September 22, 1993, 58 FR 49290).

Changes:

System identifier:

Delete “MMDI” from entry.

System name:

Delete entry and replace with: “DLA Fire and Emergency Services Program Records.”

System location:

Delete entry and replace with: “Defense Logistics Agency Field Activities. Official mailing addresses are published as an appendix to DLA's compilation of systems of records notices.”

* * * * *

Categories of records in the system:

Add to entry: “Note: Any information relating to an individual's religious preference is collected and maintained only if the individual has made an informed decision to voluntarily provide the information.”

Authority for maintenance of the system:

Delete entry and replace with: “5 U.S.C. 301, Departmental Regulations; 10 U.S.C. 136, Under Secretary of Defense for Personnel and Readiness; DoD Instruction 6055.6, DoD Fire and Emergency Services Program; and E.O. 9397 (SSN).”

Purpose(s):

Delete entry and replace with: “Records are used to manage the DLA Fire and Emergency Services Program, and to provide data concerning the professional qualifications, training requirements, and health and readiness of the DLA Field Activity firefighters and emergency medical technicians. Records are also used for identification and emergency notification in case of accident or casualty.”

* * * * *

Safeguards:

Delete entry and replace with: “Records are accessible only to the custodian of the records or by persons responsible for servicing the record system in performance of their official duties. Electronic files are deployed on accredited systems with access restricted to authorized users. Records are stored in locked cabinets or rooms and are controlled by personnel screening and computer software. All individuals granted access to this system of records have received Privacy Act training.”

Retention and disposal:

Delete entry and replace with: “Disposition pending. Until the National Archives and Records Administration has approved the disposition of these records, treat them as permanent.”

System manager(s) and address:

Delete entry and replace with: “Heads of the Defense Logistics Agency Field Activities. Official mailing addresses are published as an appendix to DLA's compilation of systems of records notices.”

Notification procedure:

Delete entry and replace with: “Individuals seeking to determine whether information about themselves is contained in this system of records should address written inquiries to the Privacy Act Officer of the particular Defense Logistics Agency Field Activity involved. Official mailing addresses are published as an appendix to DLA's compilation of systems of records notices.

Individual should provide their full name, Social Security number, employee number, and/or station number.”

Record access procedures:

Delete entry and replace with: “Individuals seeking access to information about themselves contained in this system of records should address written inquiries to the Privacy Act Officer of the particular Defense Logistics Agency Field Activity involved. Official mailing addresses are published as an appendix to DLA's compilation of systems of records notices.

Individual should provide their full name, Social Security number, employee number, and/or station number.”

Contesting record procedures:

Delete entry and replace with: “The DLA rules for accessing records, for contesting contents, and appealing initial agency determinations are contained in 32 CFR part 323, or may be obtained from the Privacy Act Officer, Headquarters, Defense Logistics Agency, ATTN: DP, 8725 John J. Kingman Road, Stop 2533, Fort Belvoir, VA 22060-6221.”

* * * * *

S600.20

System name:

DLA Fire and Emergency Services Program Records.

System location:

Defense Logistics Agency Field Activities. Official mailing addresses are published as an appendix to DLA's compilation of systems of records notices.

Categories of individuals covered by the system:

Individuals assigned firefighting and emergency medical technician duties within the Defense Logistics Agency.

Categories of records in the system:

Individual's name, Social Security number, home address and telephone number, education and training data, professional certifications, emergency notification data, religion, and driver's license number and expiration date. File also contains personal health information such as physical limitations, allergies, medications, height, weight, blood type, need for eye glasses or contact lenses, tobacco use, and health insurance data.

Note: Any information relating to an individual's religious preference is collected and maintained only if the individual has made an informed decision to voluntarily provide the information.

Authority for maintenance of the system:

5 U.S.C. 301, Departmental Regulations; 10 U.S.C. 136, Under Secretary of Defense for Personnel and Readiness; DoD Instruction 76055.6, DoD Fire and Emergency Services Program; and E.O. 9397 (SSN).

Purpose(s):

Records are used to manage the DLA Fire and Emergency Services Program, and to provide data concerning the professional qualifications, training requirements, and health and readiness of the DLA Field Activity firefighters and emergency medical technicians. Records are also used for identification and emergency notification in case of accident or casualty.

Routine uses of records maintained in the system, including categories of users and the purposes of such uses:

In addition to those disclosures generally permitted under 5 U.S.C. 552a(b) of the Privacy Act, these records or information contained therein may specifically be disclosed outside the DoD as a routine use pursuant to 5 U.S.C. 552a(b)(3) as follows:

To local fire departments for training or assistance in firefighting operations.

To local hospitals and medical personnel for emergency treatment in case of accident or casualty.

To Federal and nonfederal schools, academies, and similar institutions for training or certification purposes.

To the General Services Administration and the U.S. Departments of Interior and Agriculture when responding to forest, acreage, or building fires or emergencies on federally owned or controlled property.

To the Environmental Protection Agency in situations involving hazardous materials or chemical, biological, radiological, nuclear, and explosives incidents.

To Federal, state, or local disaster relief agencies for mutual aid.

The DoD “Blanket Routine Uses” set forth at the beginning of DLA's compilation of systems of records notices apply to this record system.

Policies and practices for storing, retrieving, accessing, retaining, and disposing of records in the system:

Storage:

Records are stored on paper and electronic storage media.

Retrievability:

Records are retrieved by individual's name, Social Security number, employee number, and/or station number.

Safeguards:

Records are accessible only to the custodian of the records or by persons responsible for servicing the record system in performance of their official duties. Electronic files are deployed on accredited systems with access restricted to authorized users. Records are stored in locked cabinets or rooms and are controlled by personnel screening and computer software. All individuals granted access to this system of records have received Privacy Act training.

Retention and disposal:

Disposition is pending. Until the National Archives and Records Administration has approved the disposition of these records, treat them as permanent.

System manager(s) and address:

Heads of the Defense Logistics Agency Field Activities. Official mailing addresses are published as an appendix to DLA's compilation of systems of records notices.

Notification procedure:

Individuals seeking to determine whether information about themselves is contained in this system of records should address written inquiries to the Privacy Act Officer of the particular Defense Logistics Agency Field Activity involved. Official mailing addresses are published as an appendix to DLA's compilation of systems of records notices.

Individual should provide their full name, Social Security number, employee number, and/or station number.

Contesting record procedures:

The DLA rules for accessing records, for contesting contents, and appealing initial agency determinations are contained in 32 CFR part 323, or may be obtained from the Privacy Act Officer, Headquarters, Defense Logistics Agency, ATTN: DP, 8725 John J. Kingman Road, Stop 2533, Fort Belvoir, VA 22060-6221.

Record source categories:

Information is provided by the record subject, training and educational institutions, and medical records.

Exemptions claimed for the system:

None.

[FR Doc. 06-5098 Filed 6-2-06; 8:45 am]

BILLING CODE 5001-06-M